DEPARTMENT OF COMMERCE

National Oceanic and Atmospheric Administration

50 CFR Part 648

[Docket No. 991228355-0140-02; I.D. 110700C]

Fisheries of the Northeastern United States; Maine Mahogany Quahog Fishery; Commercial Quota Harvested

AGENCY: National Marine Fisheries Service (NMFS), National Oceanic and Atmospheric Administration (NOAA), Commerce.

ACTION: Commercial quota harvest; closure.

SUMMARY: NMFS announces that the Maine mahogany quahog commercial quota has been harvested. Vessels issued a commercial Federal fisheries permit for the Maine mahogany quahog fishery may not land Maine mahogany quahogs in the State of Maine for the remainder of calendar year 2000, unless fishing for an individual allocation of ocean quahogs under specific regulations. Regulations governing the Maine mahogany quahog fishery require publication of this notification to advise the public that the quota has been harvested and to notify vessel and dealer permit holders that no commercial quota is available for landing Maine mahogany quahogs.

DATES: Effective from 0001 hours, November 25, 2000, through 2400 hours, December 31, 2000.

FOR FURTHER INFORMATION CONTACT: Allison Ferreira, Fishery Management Specialist, (978)281-9103.

SUPPLEMENTARY INFORMATION: Regulations governing the Maine mahogany fishery are found at 50 CFR part 648. The annual quota of Maine Mahogany quahogs is 100,000 Maine bushels (35,150 hL) for 2000.

Section 648.76(b)(1)(iv) requires the Administrator, Northeast Region, NMFS (Regional Administrator) to monitor the Maine mahogany quahog quota based on dealer reports and other available information and determine when the quota will be harvested. The Regional Administrator is further required to publish notification in the Federal Register advising the public and notifying Federal vessel and dealer permit holders that, effective on a specific date, the commercial quota for Maine mahogany quahogs has been harvested and no commercial quota is available for landing Maine mahogany quahogs for the remainder of the year. The Regional Administrator has determined, based upon dealer reports and other available information, that the commercial Maine mahogany quahog quota for 2000 has been harvested.

Therefore, effective 0001 hours, November 25, 2000, further landings of Maine mahogany quahogs in Maine by vessels issued a Maine mahogany quahog permit and not fishing for an individual allocation of ocean quahogs under § 648.70 are prohibited for the remainder of the 2000 calendar year. Effective 0001 hours, November 25, 2000, federally permitted dealers are also advised that they may not purchase Maine mahogany quahogs landed in Maine for the remainder of the calendar year from federally permitted vessels, unless they are fishing for an individual allocation of ocean quahogs.

The Maine mahogany quahog zone as defined in § 648.73(d), is closed to fishing for ocean quahogs except in those areas that are tested by the State of Maine and deemed to be within the requirements of the National Shellfish Sanitation Program and adopted by the Interstate Shellfish Sanitation Conference as acceptable limits for the toxin responsible for paralytic shellfish poisoning. Harvesting of ocean quahogs is allowed only in the areas and during the time periods specified by the Maine Department of Marine Resources as being safe for human consumption.

The regulations at § 648.76(a)(2) specify that vessels fishing under an ocean quahog individual allocation, regardless of whether they possess a Maine mahogany quahog permit, may land their catch in Maine or, consistent with applicable state law, in any other state that utilizes food safety-based procedures consistent with those used by the State of Maine for such purpose, and must comply with the requirements in §§ 648.70 and 648.75. All mahogany quahogs landed by vessels fishing in the Maine mahogany quahog zone for an individual allocation of quahogs under § 648.70 are counted against the ocean quahog allocation for which the vessel is fishing.

Classification

This action is required by 50 CFR part 648 and is exempt from review under Executive Order 12866.

Authority: 16 U.S.C. 1801 et seq.

Dated: November 17, 2000.
Bruce C. Morehead,
Acting Director, Office of Sustainable Fisheries, National Marine Fisheries Service.

[FR Doc. 00-30025 Filed 11-22-00; 8:45 am]

BILLING CODE 3510-22-S